DEPARTMENT OF LABOR

Employment and Training Administration

[NAFTA-4902]

American Lumber Company; Notice of Termination of Investigation

Pursuant to Title V of the North American Free Trade Agreement Implementation Act (Pub. L. 103-182) concerning transitional adjustment assistance, hereinafter called (NAFTA-TAA), and in accordance with section 250(a), subchapter D, chapter 2, title II, of the Trade Act of 1974, as amended (19 U.S.C. 2273), an investigation was initiated on May 18, 2001 in response to a petition filed by a company official on behalf of workers at American Lumber Company, Union City and Williamsport, Pennsylvania.

The petitioner has requested that the petition be withdrawn. Consequently, further investigation in this case would serve no purpose, and the investigation has been terminated.

Signed at Washington, DC, this 12th day of September 2001.
Linda G. Poole,
Certifying Officer, Division of Trade Adjustment Assistance.

[FR Doc. 01-23538 Filed 9-20-01; 8:45 am]

BILLING CODE 4510-30-M